Proclamation 8179 of September 21, 2007

Gold Star Mother's Day, 2007

By the President of the United States of America

A Proclamation

The gift of liberty is secured by heroes who have answered the call to serve when America needed them most. On Gold Star Mother's Day, we honor the mothers of the service men and women who have given their lives in the defense of our great Nation.

America's Gold Star Mothers are remarkable patriots who serve their communities by demonstrating good citizenship, providing support and services to our troops and veterans, and helping comfort the families whose loved ones have made the ultimate sacrifice. Their sense of duty and deep devotion to our country inspire our Nation, and we thank them for their compassion, determination, and strength. Though they carry a great burden of grief, these courageous mothers help ensure that the legacy of our fallen heroes will be forever remembered. On this day, we offer our deep gratitude and respect to our Nation's Gold Star Mothers; we honor the sons and daughters who died while wearing the uniform of the United States; and we pray for God's blessings on them, their mothers, and their families.

The Congress, by Senate Joint Resolution 115 of June 23, 1936 (49 Stat. 1895 as amended), has designated the last Sunday in September as “Gold Star Mother's Day” and has authorized and requested the President to issue a proclamation in its observance.

NOW, THEREFORE, I, GEORGE W. BUSH, President of the United States of America, do hereby proclaim Sunday, September 30, 2007, as Gold Star Mother's Day. I call upon all Government officials to display the flag of the United States over Government buildings on this solemn day. I also encourage the American people to display the flag and hold appropriate ceremonies as a public expression of our Nation's sympathy and respect for our Gold Star Mothers.

IN WITNESS WHEREOF, I have hereunto set my hand this twenty-first day of September, in the year of our Lord two thousand seven, and of the Independence of the United States of America the two hundred and thirty-second.

[FR Doc. 07-4768

Filed 9-25-07; 8:45 am]

Billing code 3195-01-P